SECURITIES AND EXCHANGE COMMISSION

[File No. 500-1]

In the Matter of Rainbow International, Corp., a/k/a Raintree Brands Incorporated; Order of Suspension of Trading

September 30, 2016.

It appears to the Securities and Exchange Commission (“Commission”) that there is a lack of current and accurate information concerning the securities of Rainbow International, Corp. (CIK No. 0001522538) (“Rainbow”) because Rainbow has confirmed for the Commission staff that the company is no longer operating. In addition, there is a lack of accurate information concerning the securities of Rainbow because in Form 8-Ks filed with the Commission on May 5, 2014, May 12, 2014, and Sept. 4, 2014 by Rainbow, the company appears to have made false and misleading statements concerning, among other things, a purported acquisition, company business relationships, its purported development of products, purported rental revenues, and a purported purchase of company shares by a company officer. The company appears not to have made any information publicly available about itself for approximately two years. Rainbow, also known as Raintree Brands Incorporated, is a Nevada corporation in default whose principal place of business is listed as Centennial, Colorado. Rainbow shares are quoted on OTC Link, operated by OTC Markets Group, Inc., under the ticker symbol “RNBI.”

The Commission is of the opinion that the public interest and the protection of investors require a suspension of trading in the securities of Rainbow.

Therefore, it is ordered, pursuant to Section 12(k) of the Exchange Act, that trading in the securities of Rainbow International, Corp. is suspended for the period from 9:30 a.m. EDT on September 30, 2016, through 11:59 p.m. EDT on October 13, 2016.

By the Commission.
Jill M. Peterson,
Assistant Secretary.

[FR Doc. 2016-24062 Filed 9-30-16; 4:15 pm]

BILLING CODE 8011-01-P